DEPARTMENT OF HEALTH AND HUMAN SERVICES

Centers for Disease Control and Prevention

[Docket No. CDC-2022-0120]

Advisory Committee to the Director (ACD), Centers for Disease Control and Prevention (CDC)

AGENCY: Centers for Disease Control and Prevention (CDC), Department of Health and Human Services (HHS).

ACTION: Notice of meeting and request for comment.

SUMMARY: In accordance with the Federal Advisory Committee Act, the CDC announces the following meeting of the Advisory Committee to the Director, Centers for Disease Control and Prevention (ACD, CDC). This is a hybrid meeting, accessible both in person and virtually (webcast live via the World Wide Web). It is open to the public and limited only by the space available. Time will be available for public comment.

DATES: The meeting will be held on November 2, 2022, from 10:00 a.m. to 4:30 p.m. and November 3, 2022 from 9:00 a.m. to 12:00 p.m., EDT (times are subject to change).

Written comments must be received on or before October 24, 2022.

ADDRESSES: Meeting address: CDC Roybal Campus, Building 19, Room 3B, 1600 Clifton Road NE, Atlanta, Georgia 30329-4027. The conference room accommodates approximately 200 people.

Please note that the meeting location, the CDC Roybal Campus, is a federal facility and in-person access is limited to United States citizens unless prior authorizations, taking up to 30 to 60 days, have been made. Visitors must follow all directions for access to CDC facilities. Directions for visitors to CDC, including safety requirements related to COVID-19, are available at https://www.cdc.gov/screening/visitors.html.

Registration: You must register to attend this meeting in person. If you wish to attend in person, please submit a request by email to ACDirector@cdc.gov or by telephone at (404) 639-0390 at least 5 business days in advance of the meeting. No registration is required to view the meeting via the World Wide Web. Information for accessing the webcast will be available at https://www.cdc.gov/about/advisory-committee-director/.

Written comments: You may submit comments, identified by Docket No. CDC-2022-0120, by either of the methods listed below. Do not submit comments for the docket by email. CDC does not accept comments for the docket by email.

• Federal eRulemaking Portal: https://www.regulations.gov. Follow the instructions for submitting comments.

• Mail: Kerry Caudwell, MPA, Centers for Disease Control and Prevention, 1600 Clifton Road NE, Mailstop H21-10, Atlanta, Georgia 30329-4027. Attn: Docket No. CDC-2022-0120.

Instructions: All submissions received must include the agency name and Docket Number. All relevant comments received will be posted without change to https://www.regulations.gov, including any personal information provided. For access to the docket to read background documents or comments received, go to https://www.regulations.gov. Written comments received in advance of the meeting will be included in the official record of the meeting.

FOR FURTHER INFORMATION CONTACT: Kerry Caudwell, MPA, Office of the Chief of Staff, Centers for Disease Control and Prevention, 1600 Clifton Road NE, Mailstop H21-10, Atlanta, Georgia 30329-4027; Telephone: (404) 639-0390; Email: ACDirector@cdc.gov.

SUPPLEMENTARY INFORMATION:

Purpose: The Advisory Committee to the Director, CDC, shall advise the Secretary, HHS, and the Director, CDC, on policy and broad strategies that will enable CDC to fulfill its mission of protecting health through health promotion, prevention, and preparedness. The committee recommends ways to prioritize CDC's activities, improve results, and address health disparities. It also provides guidance to help CDC work more effectively with its various private and public sector constituents to make health protection a practical reality.

Matters to be Considered: The agenda will include discussions regarding CDC's current and future work in the following topic areas: (1) data modernization; (2) laboratory quality; and (3) health equity. The ACD will hear reports from its working groups on these three topics. In addition, the ACD will have presentations on the COVID-19 and Monkeypox responses, Social Determinants of Health and CDC's Moving Forward initiative. Agenda items are subject to change as priorities dictate.

Public Participation

Interested persons or organizations are invited to participate by submitting written views, recommendations, and data. Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. CDC will carefully consider all comments submitted into the docket.

Oral Public Comment: This meeting will include time for members of the public to make an oral comment. Oral public comment will occur before any scheduled votes. Priority will be given to individuals who submit a request to make an oral public comment before the meeting according to the procedure below.

Procedure for Oral Public Comment: All persons interested in making an oral public comment at the November 2 and 3, 2022, ACD meeting must submit a request by visiting https://www.cdc.gov/about/advisory-committee-director/ no later than 11:59 p.m., EDT, October 24, 2022, according to the instructions provided.

If the number of persons requesting to speak is greater than can be reasonably accommodated during the scheduled time, CDC will conduct a lottery to determine the speakers for the scheduled public comment session. CDC staff will notify individuals regarding their request to speak via email by October 26, 2022. To accommodate the significant interest in participation in the oral public comment session of ACD meetings, each speaker will be limited to 2 minutes, and each speaker may only speak once per meeting.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-22215 Filed 10-12-22; 8:45 am]

BILLING CODE 4163-18-P